DEPARTMENT OF LABOR

Employment and Training Administration

[TA-W-85,804]

Convergys Corporation; Including Workers Whose Wages Were Reported Through Stream International, Inc.; Jacksonville, Texas; Amended Certification Regarding Eligibility To Apply for Worker Adjustment Assistance

In accordance with Section 223 of the Trade Act of 1974, as amended (“Act”), 19 U.S.C. 2273, the Department of Labor issued a Certification of Eligibility to Apply for Worker Adjustment Assistance on March 15, 2016, applicable to workers of Convergys Corporation, Jacksonville, Texas. The Department's notice of determination was published in the Federal Register on April 26, 2016 (81 FR 24649).

At the request of a State Workforce Office, the Department reviewed the certification for workers of the subject firm. The workers are engaged in the supply of outsourced customer services and product support (call center).

New information shows that some workers separated from employment at Convergys Corporation, Jacksonville, Texas had their wages reported under the name Stream International, Inc.

The intent of the Department's certification is to include all workers of the subject firm who were adversely affected by shift in services of outsourced customer services and product support (call center).

Accordingly, the Department is amending this certification to properly reflect this matter. The amended notice applicable to TA-W-85,804 is hereby issued as follows:

All workers of Convergys Corporation, including workers whose wages were reported through Stream International, Inc., Jacksonville, Texas, who became totally or partially separated from who became totally or partially separated from employment on or after February 2, 2014 through March 15, 2018 and all workers in the group threatened with total or partial separation from employment on date of certification through two years from the date of certification, are eligible to apply for adjustment assistance under Chapter 2 of Title II of the Trade Act of 1974, as amended.

Signed in Washington, DC, this 12th day of August 2016.
Hope D. Kinglock,
Certifying Officer, Office of Trade Adjustment Assistance.

[FR Doc. 2016-23030 Filed 9-23-16; 8:45 am]

BILLING CODE 4510-FN-P